ENVIRONMENTAL PROTECTION AGENCY

[ER-FRL-9059-2]

Environmental Impact Statements; Notice of Availability

Responsible Agency: Office of Federal Activities, General Information 202-564-5632 or https://www.epa.gov/nepa.

Weekly receipt of Environmental Impact Statements (EIS)

Filed October 25, 2021 10 a.m. EST Through November 1, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210164, Draft, FERC, WY, Clear Creek Expansion Project, Comment Period Ends: 12/20/2021, Contact: Office of External Affairs 866-208-3372.

EIS No. 20210165, Final, CHSRA, CA, Burbank to Los Angeles Project Section Final Environmental Impact Report/Environmental Impact Statement, Review Period Ends: 12/06/2021, Contact: Scott Rothenberg 916-403-6936.

EIS No. 20210166, Final, FHWA, AZDOT, AZ, Sonoran Corridor Tier 1 Final Environmental Impact Statement and Record of Decision, Contact: Ammon Heier 602-382-8983. Under 23 U.S.C. 139(n)(2), FHWA has issued a single document that consists of a final environmental impact statement and record of decision. Therefore, the 30-day wait/review period under NEPA does not apply to this action.

EIS No. 20210167, Final, FERC, LA, Alberta Xpress and Lease Capacity Abandonment Projects, Review Period Ends: 12/06/2021, Contact: Office of External Affairs 866-208-3372.

Dated: November 1, 2021.
Cindy S. Barger,
Director, NEPA Compliance Division, Office of Federal Activities.

[FR Doc. 2021-24212 Filed 11-4-21; 8:45 am]

BILLING CODE 6560-50-P